ENVIRONMENTAL PROTECTION AGENCY

[FRL-7398-7]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby at (202) 566-1672, or email at Auby.susan@epa.gov. and please refer to the appropriate EPA Information Collection Request (ICR) Number.

SUPPLEMENTARY INFORMATION:

OMB Responses to Agency Clearance Requests

OMB Approvals

EPA ICR No. 1617.04; Stratospheric Ozone Protection, Servicing of Motor Vehicle Air Conditions; in 40 CFR part 82, subpart B; was approved 09/24/2002; OMB No. 2060-0247; expires 09/30/2005.

EPA ICR No. 1811.03; NESHAP for Polyether Polyols Production; in 40 CFR part 63, subpart PPP; was approved 09/26/2002; OMB No. 2060-0415; expires 09/30/2005.

EPA ICR No. 1856.03; NESHAP for Primary Lead Smelters; in 40 CFR part 63, subpart TTT; was approved 10/03/2002; OMB No. 2060-0414; expires 10/31/2005.

EPA ICR No. 1656.09; Information Collection Requirements for Registration and Documentation of Risk Management Plans under Section 112r of the Clean Air Act; in 40 CFR part 68; was approved 10/08/2002; OMB No. 2050-0144; expires 10/31/2005.

EPA ICR No. 1081.07; NESHAP for Inorganic Arsenic Emissions from Glass Manufacturing Plants; in 40 CFR Part 61, subpart N; was approved 10/04/2002; OMB No. 2060-0043; expires 10/31/2005.

EPA ICR No. 1821.03; NESHAP for Steel Pickling; in 40 CFR part 63, subpart CCC; was approved 10/04/2002; OMB No. 2060-0419; expires 10/31/2005.

EPA ICR No. 0222.06; Investigation into Possible Noncompliance of Motor Vehicles; was approved 10/03/2002; OMB No. 2060-0086; expires 08/31/2003.

Comments Filed

EPA ICR No. 2022.01; Reporting and Recordkeeping Requirements for the Brick and Structural Clay Products Manufacturing NESHAP; on 10/03/2002 OMB filed a comment.

Dated: October 17, 2002.
Doreen Sterling,
Acting Director, Collection Strategies Division.

[FR Doc. 02-27137 Filed 10-23-02; 8:45 am]

BILLING CODE 6560-50-P